DEPARTMENT OF COMMERCE

International Trade Administration

Fermi Research Alliance, et al.; Notice of Decision on Applicationfor Duty-Free Entry of Scientific Instruments

This is a decision pursuant to section 6(c) of the Educational, Scientific, and Cultural Materials Importation Act of 1966 (Pub. L. 89-651, as amended by Pub. L. 106-36; 80 Stat. 897; 15 CFR part 301). On March 22, 2024, the Department of Commerce published a notice in the Federal Register requesting public comment on whether instruments of equivalent scientific value, for the purposes for which the instruments identified in the docket(s) below are intended to be used, are being manufactured in the United States. See Application(s) for Duty-Free Entry of Scientific Instruments, 89FR20426-27, (Notice). We received no public comments regarding the instruments in docket numbers: 24-001; 24-002; 24-005; 24-007. We did receive comments, from SRI International, regarding the instruments in docket numbers: 24-003; 24-004; 24-006; and 24-008.

Comments: In its comments regarding the instruments in docket numbers: 24-003; 24-004; 24-006; and 24-008, SRI International claims that currently, no domestic manufacturer offers an off-the-shelf or custom-made item of equivalent scientific value. Decision: Approved. We know of no instrument of equivalent scientific value to the foreign instrument described below, for such purposes as this is intended to be used, that was being manufactured in the United States at the time of order.

Docket Number: 24-001. Applicant: Fermi Research Alliance, P.O. Box 500, Batavia, IL 60510. Instrument: Helium Refrigeration/Liquification Plant and accompanying accessories. Manufacturer: Air Liquide, France. Intended Use: The PIP II linear accelerator will provide unparalleled achievement in particle acceleration. These accelerated particles will be born at the FNAL site in Batavia, IL and accelerated via the PIP II linear accelerator through the Earth approximately 900 miles west into the Deep Underground Neutrino Experiment (DUNE) located in Lead, SD, to discover whether neutrinos violate the fundamental matter-antimatter symmetry of physics. The design, research, development, and results from the construction and use of the PIP II Linear Accelerator will be the subject of high energy physics and physics engineering courses at dozens of domestic and international institutions of higher education. No specific course titles are available at this time, but the information will be extensively discussed and challenged at college and university classrooms for years to come.

Docket Number: 24-002. Applicant: Washington University in St. Louis, One Brookings Drive, St. Louis, MO 63130-4899. Instrument: Two-Dimensional Material Metallographic Microscopic Transfer System. Manufacturer: HIGH HOPE ZHONGDING CORPORATION, China. Intended Use: The instrument is intended to be used for all general two-dimensional (2D) materials like graphene, molybdenum sulfide, black phosphorus, 2D magnetic et al., to perform a comprehensive set of optical experiments aimed at elucidating optical and magnetic properties of superlattices based on 2D materials et al. The main objective is to create new quantum materials as designed, to study exotic quantum states, which is crucial for the evolution of optical, electronic and information technologies of the future. This transfer stage is particularly developed for cutting-edge technology in the fabrication and manipulation of two-dimensional materials, which is crucial for researchers in these fields.

Docket Number: 24-003. Applicant: University of Colorado JILA Department, Campus Box 440 UCB, JILA Building, Room S/175, Boulder, CO 80309. Instrument: Narrow Linewidth Laser. Manufacturer: Shanghai Precilasers Technology Co, Ltd., China. Intended Use: The instrument will be intended to be used for Quantum simulation using Lithium atoms in a cryogenic environment. Ultracold Lithium atoms will be used for studies of the Fermi-Hubbard model, which are an ideal platform for such studies due to their broadly tunable interactions with Feshbach resonances. Observation will determine whether low temperature phases of the Fermi-Hubbard model can be revealed by performing our experiments within a cryogenically pumped environment to improve the evaporatively cooled gas temperatures due to suppression of hole-induced heating.

Docket Number: 24-004. Applicant: University of Colorado JILA Department, 1900 Colorado Avenue, Campus Box 440 UCB, Boulder, CO 80309. Instrument: Fiber Laser. Manufacturer: Shanghai Precilasers Technology Co., China. Intended Use: The instrument is intended to be used for research that will be conducted on barely interacting Strontium (Sr) atoms confined and cooled by lasers down to extremely cold temperatures, below 1 microkelvin. The frequency of transition to a highly stable state in Sr atoms can be used as the reference of the unit of time. To realize the atomic clock operation, precision quantum spectroscopy experiment will be performed to measure the transition frequency. The laser claimed for the duty-exemption is an 813 nm fiber laser module with a single-mode continuous-wave (CW) output power of 10 W, which will be used for setting up the 813 nm magic-wavelength optical lattice for our experiment. The Sr atoms are thus confined in each lattice node while showing minimally perturbed transition frequency. The research is conducted by graduated students at the University of Colorado as field training in their degree programs.

Docket Number: 24-005. Applicant: University of Florida, P.O. Box 118525, Gainesville, FL 32611. Instrument: UniPrep2 for determining hydrogen isotopic composition. Manufacturer: EuroVectro, Italy. Intended Use: The instrument Uniprep2 is intended to be used in the measurement of hydrogen isotope composition of complex organic samples to control hydrogen-isotope exchange and for sample drying and vapor equilibration. The properties of the materials studied are that they have exchangeable hydrogen and residual moisture contamination. This instrument helps to address those complications that can have biased results.

Docket Number: 24-006. Applicant: University of Colorado JILA Department, Campus Box 440 UCB, JILA Building, Room S/175, Boulder, CO 80309. Instrument: Narrow linewidth laser@2923nm. Manufacturer: Shanghai Precilasers Technology Co., Ltd, China. Intended Use: The instrument is intended to be used to study continuous superradiant lasing from Stontium atoms. The lasing will induced in part using the lasing system purchased. The laser will be used to perform experiments that will demonstrate (for the first time anywhere) continuous superradiant lasing. The laser will be used to cool the atoms to a few millionths of a degree above absolute zero. To achieve these goals, we require a narrowlinewidth laser source (<50kHz) with high output power (>400mW) at 2923 nm for laser cooling and trapping Strontium atoms using the internal levels 3P2 to 3D3.

Docket Number: 24-007. Applicant: University of Massachusetts Amherst, Department of Polymer Science and Engineering, 120 Governors Drive, Amherst, MA 01003. Instrument: Food Elasticity Measurement System. Manufacturer: Changfu Technology (Beijing) Company, Ltd., China. Intended Use: The instrument is intended to be used for rubber elasticity—The system allows for measuring properties such as elastic modulus, stress-strain relationship, and resilience of rubber materials; Food texture temperature response and elasticity, with the temperature control unit, the system enables studying how food textures change in elasticity and firmness with temperature variations; and Polymer glass thermal analysis—the system's thermal analysis capabilities facilitate the examination of heat conduction properties in polymer glasses, including thermal conductivity and heat transfer behavior.

Docket Number: 24-008. Applicant: Harvard University, Department of Physics, 17 Oxford Street, Jefferson Laboratory, Cambridge, MA 02138. Instrument: (1) 703nm single frequency fiber laser, (1) 1080nm single-frequency fiber laser. Manufacturer: Shanghai Precilaser Technology, Co., Ltd., China. Intended Use: The instruments are intended to be used in support of the Advanced Cold Molecule Electron Electric Dipole Moment Experiment (ACME EDM experiment), a collaborative physics experiment now between Harvard University, Northwestern University, and University of Chicago. The goal of the ACME project is to shed light on the reasons for why there is more matter than antimatter in the universe through the measurement of properties of the Thorium-232 Monoxide molecules.

Dated: May 29, 2024.
Gregory W. Campbell,
Director, Subsidies and Economic Analysts, Enforcement and Compliance.

[FR Doc. 2024-12170 Filed 6-3-24; 8:45 am]

BILLING CODE 3510-DS-P